DEPARTMENT OF COMMERCE

International Trade Administration

[C-570-911]

Circular Welded Carbon Quality Steel Pipe From the People's Republic of China: Final Results of the Expedited First Sunset Review of the Countervailing Duty Order

AGENCY: Import Administration, International Trade Administration, Department of Commerce.

DATES: Effective October 2, 2013.

SUMMARY: The Department of Commerce (Department) finds that revocation of the countervailing duty (CVD) order on circular welded carbon quality steel pipe (circular welded pipe) from the People's Republic of China (PRC) would be likely to lead to continuation or recurrence of net countervailable subsidies.

FOR FURTHER INFORMATION CONTACT: Jerrold Freeman or Nancy Decker, AD/CVD Operations, Office 1, Import Administration, International Trade Administration, U.S. Department of Commerce, 14th Street and Constitution Avenue NW., Washington, DC 20230; telephone (202) 482-0180 or (202) 482-0196, respectively.

SUPPLEMENTARY INFORMATION:

Background

On June 3, 2013, the Department initiated the first sunset review of the CVD order ¹ on circular welded pipe from the PRC pursuant to section 751(c) of the Tariff Act of 1930, as amended (the Act).²

¹ See Circular Welded Carbon Quality Steel Pipe from the People's Republic of China: Notice of Amended Final Affirmative Countervailing Duty Determination and Notice of Countervailing Duty Order, 73 FR 42545 (July 22, 2008) (CVD order).

² See Initiation of Five-Year (“Sunset”) Review, 78 FR 33063 (June 3, 2013).

Between June 12, and June 18, 2013, the Department received notices of intent to participate from Allied Tube and Conduit, EXLTUBE, JMC Steel Group, Maruichi American Corporation, TMK IPSCO, United States Steel Corporation, and Western Tube & Conduit Corporation) (collectively, domestic interested parties), within the deadline specified in 19 CFR 351.218(d)(1)(i). On July 2, 2013, the Department received an adequate substantive response from the domestic interested parties within the 30-day deadline specified in 19 CFR 351.218(d)(3)(i).

The Department did not receive any submissions from other interested parties. As a result, pursuant to 19 CFR 351.218(e)(1)(ii)(C)(2), the Department is conducting an expedited (120-day) sunset review of the CVD order.

Scope of the Order

This order covers certain welded carbon quality steel pipes and tubes. A full description of the scope of the order is contained in the Issues and Decision Memorandum,³ which is hereby adopted by this notice.

³ See Issues and Decision Memorandum for the Final Results of the Expedited Sunset Review of the Countervailing Duty Order on Circular Welded Carbon Quality Steel Pipe from the People's Republic of China” from Christian Marsh, Deputy Assistant Secretary for Antidumping and Countervailing Duty Operations, to Paul Piquado, Assistant Secretary for Import Administration, dated concurrently with this notice (Issues and Decision Memorandum).

The Issues and Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the Internet at http://www.trade.gov/ia/. The signed Issues and Decision Memorandum and the electronic versions of the Issues and Decision Memorandum are identical in content.

Analysis of Comments Received

All issues raised in this review are addressed in the Issues and Decision Memorandum. The issues include the likelihood of continuation or recurrence of a countervailable subsidy and the net countervailable subsidy likely to prevail if the order was revoked.

Final Results of Review

Pursuant to sections 752(b)(1) and (3) of the Act, we determine that revocation of the CVD order on circular welded pipe from the PRC would be likely to lead to continuation or recurrence of countervailable subsidies at the following net countervailable subsidy rates:

Manufacturers/producers/exporters | Net countervailable subsidy (percent)
Weifang East Steel Pipe Co., Ltd (Weifang East) | 29.83
Zhejiang Kingland Pipeline and Technologies Co., Ltd., and affiliated companies (Zhejiang Kingland) | 48.18
Tianjin Shuangjie Steel Pipe Co., Ltd.; Tianjin Shuangjie Steel Pipe Group Co., Ltd.; Tianjin Wa Song Imp. & Exp. Co., Ltd.; and Tianjin Shuanglian Galvanizing Products Co., Ltd. (Tianjin Shuangjie) | 620.08
All Others | 39.01

We are issuing and publishing the final results and notice in accordance with sections 751(c), 752(b), and 777(i)(1) of the Act.

Dated: September 25, 2013.
Paul Piquado,
Assistant Secretary for Import Administration.

[FR Doc. 2013-24129 Filed 10-1-13; 8:45 am]

BILLING CODE 3510-DS-P